ENVIRONMENTAL PROTECTION AGENCY

40 CFR Part 52

[R04-OAR-2005-AL-0001-200520b; FRL-8014-8]

Approval and Promulgation of Implementation Plans; Alabama; Nitrogen Oxides Budget and Allowance Trading Program, Phase II

AGENCY: Environmental Protection Agency (EPA).

ACTION: Proposed rule.

SUMMARY: The EPA is proposing to approve State Implementation Plan (SIP) revisions submitted by the State of Alabama on February 23, 2005. The revision responds to the EPA's regulation entitled, “Interstate Ozone Transport: Response to Court Decisions on the Nitrogen Oxides (NOX) SIP Call, NOX SIP Call Technical Amendments, and Section 126 Rules,” otherwise known as the “NOX SIP Call Phase II.” This revision satisfies EPA's rule that requires Alabama to submit NOX SIP Call Phase II revisions needed to achieve the necessary incremental reductions of NOX. The intended effect of this SIP revision is to reduce emissions of NOX in order to help attain the national ambient air quality standard (NAAQS) for ozone. The revision also corrects a typographical error and deletes an expired provision from 2003, pertaining to open burning in Morgan County, Alabama.

In the Final Rules section of this Federal Register, the EPA is approving the State's SIP revision as a direct final rule without prior proposal because the Agency views this as a non-controversial submittal and anticipates no adverse comments. A detailed rationale for the approval is set forth in the direct final rule. If no significant, material, and adverse comments are received in response to this rule, no further activity is contemplated. If EPA receives adverse comments, the direct final rule will be withdrawn and all public comments received will be addressed in a subsequent final rule based on this rule. The EPA will not institute a second comment period on this document. Any parties interested in commenting on this document should do so at this time.

DATES: Written comments must be received on or before January 27, 2006.

ADDRESSES: Comments may be submitted by mail to: Stacy DiFrank, Regulatory Development Section, Air Planning Branch, Air, Pesticides and Toxics Management Division, U.S. Environmental Protection Agency, Region 4, 61 Forsyth Street, SW., Atlanta, Georgia 30303-8960. Comments may also be submitted electronically, or through hand delivery/courier. Please follow the detailed instructions described in the direct final rule, ADDRESSES section which is published in the Rules Section of this Federal Register.

FOR FURTHER INFORMATION CONTACT: Stacy DiFrank, Regulatory Development Section, Air Planning Branch, Air, Pesticides and Toxics Management Division, U.S. Environmental Protection Agency, Region 4, 61 Forsyth Street, SW., Atlanta, Georgia 30303-8960. The telephone number is (404) 562-9042. Ms. DiFrank can also be reached via electronic mail at difrank.stacy@epa.gov.

SUPPLEMENTARY INFORMATION: For additional information see the direct final rule which is published in the Rules section of this Federal Register.

Dated: December 9, 2005.
A. Stanley Meiburg,
Acting Regional Administrator, Region 4.

[FR Doc. 05-24473 Filed 12-27-05; 8:45 am]

BILLING CODE 6560-50-P